INTERNATIONAL TRADE COMMISSION

[USITC SE-00-035]

Sunshine Act; Meeting

AGENCY HOLDING THE MEETING: United States International Trade Commission.

TIME AND DATE: July 26, 2000 at 11 a.m.

PLACE: Room 101, 500 E Street S.W., Washington, DC 20436, Telephone: (202) 205-2000.

STATUS: Open to the public.

MATTERS TO BE CONSIDERED:

1. Agenda for future meeting: none.

2. Minutes.

3. Ratification List.

4. Inv. Nos. 731-TA-539-C, E, and F (Review) (Uranium from Russia, Ukraine, and Uzbekistan)—briefing and vote. (The Commission is currently scheduled to transmit its determination to the Secretary of Commerce on August 7, 2000.)

5. Outstanding action jackets: none.

In accordance with Commission policy, subject matter listed above, not disposed of at the scheduled meeting, may be carried over to the agenda of the following meeting.

Issued: July 13, 2000.
By order of the Commission:
Donna R. Koehnke,
Secretary.

[FR Doc. 00-18321 Filed 7-14-00; 5:09 pm]

BILLING CODE 7020-02-P